DEPARTMENT OF JUSTICE

Antitrust Division

Notice Pursuant to the National Cooperative Research and Production Act of 1993—Maritime Sustainment Technology and Innovation Consortium

Notice is hereby given that, on October 10, 2024, pursuant to section 6(a) of the National Cooperative Research and Production Act of 1993, 15 U.S.C. 4301 et seq. (“the Act”), Maritime Sustainment Technology and Innovation Consortium (“MSTIC”) has filed written notifications simultaneously with the Attorney General and the Federal Trade Commission disclosing changes in its membership. The notifications were filed for the purpose of extending the Act's provisions limiting the recovery of antitrust plaintiffs to actual damages under specified circumstances.

Specifically, Additive Manufacturing & Engineering, Inc., Huntsville, AL; AIVOT Robotics, Inc., Seattle, WA; Applied Intuition Government, Inc., Arlington, VA; BAE Systems Technology Solutions & Services, Inc., Rockville, MD; Bauer Compressors, Inc., Norfolk, VA; Bishop Ascendant, Inc., Caldwell, NJ; CyKor LLC, Annapolis, MD; ECI Defense Group, Inc., Lyles, TN; Epsilon C5I, Inc., San Diego, CA; Gecko Robotics, Inc., Pittsburgh, PA; HII Mission Technologies Corp., McLean, VA; Hyper Tech Research, Inc., Columbus, OH; Integrated Consultants, Inc., San Diego, CA; IntelliPower, Inc., Orange, CA; Management Services Group, Inc. dba Global Technical Systems, Virginia Beach, VA; Next Earth LLC dba Next Earth Solutions, Ashburn, VA; Overland AI, Inc., Seattle, WA; Poplicus, Inc. dba Govini, Arlington, VA; PR Snoke Precision, Inc., Shamong, NJ; Programs Management Analytics & Technologies, Inc., Norfolk, VA; Safire Technology Group, Inc., McLean, VA; Schneider Electric Buildings Critical Systems, Inc., Columbia, MD; Symbiosis.io LLC, Smyrna, GA; Technology Service Corp., Arlington, VA; Mason & Hanger Group, Inc., Lexington, KY; Vitro Technology Corp., Austin, TX; and VoiceIt Technologies, Inc. dba EnQuanta, Minneapolis, MN, have been added as parties to this venture.

Also, Huckworthy LLC, Cape Charles, VA, has withdrawn as a party to this venture.

No other changes have been made in either the membership or planned activity of the group research project. Membership in this group research project remains open, and MSTIC intends to file additional written notifications disclosing all changes in membership.

On October 21, 2020, MSTIC filed its original notification pursuant to section 6(a) of the Act. The Department of Justice published a notice in the Federal Register pursuant to section 6(b) of the Act on November 19, 2020 (85 FR 73750).

The last notification was filed with the Department on July 9, 2024. A notice was published in the Federal Register pursuant to section 6(b) of the Act on September 26, 2024 (89 FR 78904).

Suzanne Morris,
Deputy Director Civil Enforcement Operations, Antitrust Division.

[FR Doc. 2024-30422 Filed 12-19-24; 8:45 am]

BILLING CODE P